NUCLEAR REGULATORY COMMISSION

Sunshine Federal Register Notice

AGENCY HOLDING THE MEETINGS: Nuclear Regulatory Commission, [NRC-2011-0006].

DATE: Week of December 19, 2011.

PLACE: Commissioners' Conference Room, 11555 Rockville Pike, Rockville, Maryland.

STATUS: Public and Closed.

ADDITIONAL ITEMS TO BE CONSIDERED:

Week of December 19, 2011

Thursday, December 22, 2011

10:25 a.m. Affirmation Session (Public Meeting) (Tentative);

a. Final Rule: AP1000 Design Certification Amendment (Tentative),

b. Entergy Nuclear Operations, Inc. (Indian Point Nuclear Generating Units 2 and 3), Applicant's Petition for Review of LBP-11-17 Granting Summary Disposition of Consolidated Contention NYS-35/36 (July 29, 2011) (Tentative),

c. U.S. Department of Energy (High-Level Waste Repository), Docket No. 63-001-HLW, Timbisha Shoshone Tribal Council Petition for Review of September 28, 2011, Board Decision (Tentative).

* The schedule for Commission meetings is subject to change on short notice. To verify the status of meetings, call (recording)—(301) 415-1292. Contact person for more information: Rochelle Bavol, (301) 415-1651.

The NRC Commission Meeting Schedule can be found on the Internet at: www.nrc.gov/about-nrc/policy-making/schedule.html.

The NRC provides reasonable accommodation to individuals with disabilities where appropriate. If you need a reasonable accommodation to participate in these public meetings, or need this meeting notice or the transcript or other information from the public meetings in another format (e.g. braille, large print), please notify Bill Dosch, Chief, Work Life and Benefits Branch, at (301) 415-6200, TDD: (301) 415-2100, or by email at william.dosch@nrc.gov. Determinations on requests for reasonable accommodation will be made on a case-by-case basis.

This notice is distributed electronically to subscribers. If you no longer wish to receive it, or would like to be added to the distribution, please contact the Office of the Secretary, Washington, DC 20555 ((301) 415-1969), or send an email to darlene.wright@nrc.gov.

Dated: December 15, 2011.
Rochelle C. Bavol,
Policy Coordinator, Office of the Secretary.

[FR Doc. 2011-32625 Filed 12-16-11; 4:15 pm]

BILLING CODE 7590-01-P